FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 22, 2008.

A. Federal Reserve Bank of Kansas City (Todd Offenbacker, Assistant Vice President) 925 Grand Avenue, Kansas City, Missouri 64198-0001:

1. John E. Eisemann, IV, Trinidad, Colorado; to retain voting shares of Republic Trinidad Corporation, Houston, Texas, and thereby indirectly retain voting shares of First National Bank in Trinidad, Trinidad, Colorado.

2. Terri Farley, Kansas City, Missouri, and David B. Sexton, Parkville, Missouri, as co-trustees of the James W. Farley, Jr. Credit Shelter Trust, to acquire voting shares of KLT Bancshares, Inc., Farley, Missouri, and thereby indirectly acquire voting shares of Farley State Bank, Parkville, Missouri.

3. Jeffrey C. Royal, Omaha, Nebraska; to acquire voting shares of Mackey Banco, Inc., and thereby indirectly acquire voting shares of Security State Bank, both in Ansley, Nebraska.

Board of Governors of the Federal Reserve System, January 2, 2008.
Jennifer J. Johnson,
Secretary of the Board.

[FR Doc. E8-30 Filed 1-7-08; 8:45 am]

BILLING CODE 6210-01-S